FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202)-523-5793 or tradeanalysis@fmc.gov).

Agreement No.: 012047.

Title: Panama/U.S. Gulf Agreement.

Parties: A.P. Moller-Maersk A/S and Hamburg Sud.

Filing Party: Wayne R. Rohde, Esq.; Sher & Blackwell LLP; 1850 M Street Suite 900; Washington, DC 20036.

Synopsis: The agreement would authorize A.P. Moller-Maersk A/S to charter space to Hamburg Sud in the trade between Panama and the U.S. Gulf Coast for cargo originating in Australia/New Zealand.

Agreement No.: 201191.

Title: Marine Terminal Services Agreement between Port of Houston Authority and ALIANCA Navegacao E Logistica, Ltd.

Parties: Port of Houston Authority; and ALIANCA.

Filing Party: Erik A. Eriksson, Esq.; General Counsel; Port of Houston Authority; PO Box 2562; Houston, TX 77252-2562.

Synopsis: The agreement authorizes Port of Houston Authority to establish discounted rates and preferential berthing rights for ALIANCA Navegacao E Logistica, Ltd.'s vessels calling at the port.

By Order of the Federal Maritime Commission.
Karen V. Gregory,
Assistant Secretary.

[FR Doc. E8-17484 Filed 7-29-08; 8:45 am]

BILLING CODE 6730-01-P